DEPARTMENT OF EDUCATION

Applications for New Awards; Technical Assistance and Dissemination To Improve Services and Results for Children With Disabilities—Center for Systemic Improvement

AGENCY: Office of Special Education and Rehabilitative Services, Department of Education.

ACTION: Notice.

Overview Information

Technical Assistance and Dissemination to Improve Services and Results for Children with Disabilities—Center for Systemic Improvement.

Notice inviting applications for a new award for fiscal year (FY) 2014.

Catalog of Federal Domestic Assistance (CFDA) Number: 84.326R.

DATES:

Applications Available: June 17, 2014.

Deadline for Transmittal of Applications: August 18, 2014.

Full Text of Announcement

I. Funding Opportunity Description

Purpose of Program: The purpose of the Technical Assistance and Dissemination to Improve Services and Results for Children with Disabilities program is to promote academic achievement and to improve results for children with disabilities by providing technical assistance (TA), supporting model demonstration projects, disseminating useful information, and implementing activities that are supported by scientifically based research.

Priority: In accordance with 34 CFR 75.105(b)(2)(iv), this priority is from allowable activities specified in the statute (see sections 663 and 681(d) of the Individuals with Disabilities Education Act (IDEA)).

Absolute Priority: For FY 2014 and any subsequent year in which we make awards from the list of unfunded applicants from this competition, this priority is an absolute priority. Under 34 CFR 75.105(c)(3), we consider only applications that meet this priority.

This priority is:

Center for Systemic Improvement

Background

The purpose of this priority is to fund a cooperative agreement to establish and operate a Center for Systemic Improvement (Center). This will be a national center with a focus on providing TA to State educational agencies (SEAs) and lead agencies (LAs) to help build their capacity ¹ to support local educational agencies (LEAs) and early intervention services (EIS) programs and providers in improving educational results and functional outcomes for children with disabilities.² Specifically, the Center will provide high-quality TA to States to:

¹ For the purpose of this priority, “capacity” broadly refers to the ability of the education system to help all students meet more challenging standards (CPRE Policy Brief: Building Capacity for Education Reform—December 1995) and the ability of the early intervention system to improve developmental and functional outcomes for infants and toddlers with disabilities and their families.

² For the purpose of this priority, “children with disabilities” refers to infants, toddlers, children, and youth with disabilities served under both Parts B and C of IDEA. For the purposes of this priority, the term “educational results” and “functional outcomes” includes “early intervention” results and “developmental outcomes” for infants and toddlers with disabilities and their families under IDEA.

(1) Increase the capacity of SEAs and LAs to develop, implement, and evaluate their State Systemic Improvement Plans (SSIPs) to achieve improved outcomes for children with disabilities;

(2) Increase SEAs' and LAs' knowledge, selection, and utilization of evidence-based practices (EBPs) ³ to improve results for children with disabilities;

³ For the purpose of this priority, “evidence-based practices” refers to a process, product, strategy, or practice being proposed that, at a minimum, meets minimal evidence of effectiveness according to the What Works Clearinghouse Evidence Standards (http://ies.ed.gov/ncee/wwc/). A rating of minimal evidence suggests that the panel cannot point to a body of research that demonstrates the practice's positive effect on student achievement. In some cases, this simply means that the recommended practices would be difficult to study in a rigorous, experimental fashion; in other cases, it means that researchers have not yet studied this practice, or that there is weak or conflicting evidence of effectiveness. A minimal evidence rating does not indicate that the recommendation is any less important than other recommendations with a strong or moderate evidence rating.

(3) Improve SEA and LA infrastructure ⁴ and coordination within SEAs and LAs for delivering effective TA on implementing and scaling-up effective strategies, stakeholder engagement, resource mapping and allocation, and instructional collaboration;

⁴ State systems that make up SEA or LA infrastructure include, at a minimum: governance, fiscal, quality standards, professional development, data, TA, and accountability/monitoring.

(4) Increase the use of effective dissemination strategies by SEAs and LAs to ensure LEAs and EIS programs and providers have access to EBPs and select and implement those EBPs in a sustainable manner;

(5) Increase the effectiveness of SEAs and LAs to meaningfully engage State and local stakeholders in the development and implementation of the SSIP;

(6) Increase the capacity of SEAs and LAs to effectively utilize TA resources funded by the Department of Education (Department) (e.g., Technical Assistance and Dissemination Network centers, Comprehensive Centers, Regional Education Laboratories, Equity Assistance Centers) and other centers (e.g., Head Start TA centers), as appropriate; and

(7) Increase the capacity of SEAs and LAs to implement general supervision systems that support effective implementation of the IDEA, including meeting its requirements and improving educational results and functional outcomes for children with disabilities.

The Office of Special Education Programs (OSEP) is committed to supporting States in their efforts to improve educational results and functional outcomes for all children with disabilities, and to incorporate those efforts into broader statewide improvement initiatives. In 2012, OSEP announced its intention to redesign its accountability framework and move to Results-Driven Accountability (RDA). Since then, OSEP has been aligning its activities and resources to more effectively support States' capacity to improve educational results and functional outcomes for children with disabilities, while continuing to assist States in ensuring compliance with IDEA's requirements.

RDA represents a results-focused approach to both monitoring and supporting States' implementation of both the results and compliance mandates of IDEA. The RDA system includes three major components: (1) The State Performance Plan (SPP)/Annual Performance Report (APR); (2) OSEP's annual State determinations; and (3) differentiated monitoring and support. Sections 616(a) and 642 of IDEA require the Department to monitor States through SPPs/APRs and through oversight of States' general supervision systems and to make annual determinations of each State's performance using data from the APR and other publicly available information. A differentiated system of monitoring and support will use results data and other information about a State to determine the appropriate intensity, focus, and nature of the oversight and support that each State will receive as part of RDA. The SPP/APR for the period Federal Fiscal Year 2013-2018 includes a new requirement for an ambitious, yet achievable, comprehensive multi-year SSIP aimed at improving educational results and functional outcomes for children with disabilities. The SSIP contains three phases: (1) Analysis of data and other information to provide a foundation for the SSIP; (2) development of the SSIP; and (3) implementation and evaluation of the SSIP. During the first phase, States are required to conduct a thorough data and infrastructure analysis, identify the State-identified measurable result or results to be achieved for children with disabilities, select coherent improvement strategies, and develop a theory of action. The State may select a single result (e.g., increasing early childhood outcomes (for Part C) or graduation rate for children with disabilities) or a cluster of related results (e.g., increasing the graduation rate and decreasing the dropout rates for children with disabilities).

Phase two builds on this analysis and requires States to develop the SSIP. The SSIP will address how the State's infrastructure can better support local-level implementation of EBPs to improve educational results and functional outcomes for children with disabilities. In addition, in this phase of the SSIP, the State will identify its targets for its State-identified measurable result(s) to evaluate the State's implementation of the SSIP.

The final phase requires the States to evaluate and report its progress in implementing the SSIP and in achieving the State-identified measurable result(s) for children with disabilities.

A focus on improved outcomes requires States to design systemic approaches to successfully engage in the work of improvement throughout the State. According to Barr (2012), this focus requires States to: (1) Work across the SEA/LA to better integrate and align its resources, services, and efforts; and (2) redesign work processes at all levels to improve capacity at local levels, which are key activities of the SSIP. In addition, the SSIP requires States to: (1) Identify root causes that have an impact on outcomes; and (2) select and apply a coherent set of improvement strategies to address root causes and build local capacity to implement EBPs in a sustainable manner. As States work to support local-level improvement by improving and aligning their resources and redesigning their work, States will need high-quality TA responsive to their unique needs in each of the areas identified above.

In a recent survey, State TA specialists identified State and local capacity-building as their greatest TA need (Daley, Fiore, Bollmer, Nimkoff, & Lysy, 2013). Other research highlights the challenges for SEAs, LAs, LEAs, and EIS programs in building capacity to provide effective TA that assists schools and EIS providers in implementing effective practices to improve educational results and functional outcomes for children with disabilities (Daley et al., 2013; Hanes, Kerins, Perlman, Redding, & Ross, 2012; Reville, 2007). LEAs report that when they need assistance to address educational issues, they are most likely to turn to the State for support (U.S. Department of Education, 2000).

States' capacity to (1) conduct comprehensive data analyses; (2) assess the effectiveness of their policies, strategies, and programs; and (3) appropriately select and sustain the implementation of a coherent set of strategies to improve outcomes may be constrained by the lack of collaborative or strategic leadership at the State level, difficulties leveraging expertise, and an insufficient number of skilled State-level staff to work with local agencies and programs (LeFloch, Boyle, & Therriault, 2008; Unger et al., 2008).

In addition to these challenges, there is often a lack of coordination and collaboration between special education and general education systems in the State (Bonner-Tompkins, 2005), and early care and education programs and services (National Governors Association, 2010). Even though State organizational structures may be focused on similar goals, most SEAs and LAs budget by program and the budgets are rarely coordinated to specific strategic objectives that may be cross-cutting across different State-level programs. This lack of coordination in budgeting and programming has resulted in State systems being ineffective in responding to the emerging needs of local agencies and programs (e.g., general education department school improvement teams provide TA to focus and priority schools in need of improvement that include students with disabilities, but special education department staff are often not members of the improvement teams and are not consulted on strategies that work with these students) (Barr, 2012).

A review of the literature on developing effective systems within a coherent State infrastructure suggests that States also need support in disseminating information on EBPs to effectively promote their implementation at local levels. Traditional ways of disseminating this information (e.g., journals, conferences, and presentations) often do not lead to meaningful changes in practice and, therefore, are unlikely to have an impact on educational results and functional outcomes (Winton, 2006). Effective dissemination of information can play an important role in the initial formation of attitudes and beliefs about effective practices (Cook, Cook, & Landrum, 2013).

Meaningful engagement of stakeholders can be an effective method for improving dissemination and local implementation of EBPs (Cashman et al., 2014) and is a critical part of each State's development and implementation of its SSIP. Authentic engagement of stakeholders (e.g., parents and families of children with disabilities, LEAs, TA providers, policy makers, EIS programs and providers, advocates, the State Advisory Panel, the State Interagency Coordinating Council, general education, etc.) helps the SEA and LA to obtain input, and coalesce support around and address, difficult educational and early childhood issues; this input should be part of the State's SSIP as it identifies and implements an effective approach to support improved educational results and functional outcomes for children with disabilities and their families (Cashman et al., 2014). Therefore, it is essential that States meaningfully engage stakeholders throughout the development, implementation, and evaluation of the SSIP.

In prior years, OSEP has supported six regional resource centers (RRCs) to provide TA that was targeted to address State-specific needs related to meeting the program requirements of Parts B and C of IDEA. Under this priority, the proposed Center will have flexibility in the provision of TA, to enable States to convene around common challenges and opportunities, rather than on the basis of geographic region. For instance, there would be the flexibility to convene around issues ranging from challenges based on demographics (such as those facing rural or urban States, those with a large enrollment, or States with high numbers of English Learners (ELs)), around specific topics, or some other approach that best meets the needs of States as they implement their SSIPs.

This Center will build upon and advance previous work of the RRCs by supporting States in the development, implementation, and evaluation of their SSIPs and improvement of their general supervision systems. In part, this will require assisting States with data and infrastructure analyses on which to base the selection of a State-identified measurable result(s) for children with disabilities, mapping of existing resources and coordination of those resources, selection of a set of coherent improvement strategies and activities that will improve the State-identified measurable result(s) for children with disabilities, and support for meaningful stakeholder engagement.

In addition, the Center will have an ongoing role in supporting States with SSIP implementation activities, including: (1) Developing and strengthening the State infrastructure to support local-level implementation and scale-up of EBPs; (2) assessing specific strategies to leverage existing capacity and resources to support SSIP implementation; (3) drawing on and promoting the use of research on implementation of EBPs; and (4) assessing the measures needed to evaluate the effectiveness of the implementation of EBPs and the State's progress toward improving the State-identified measurable result(s) for children with disabilities.

The Center will need to engage in collaborative TA activities with other Department-funded TA centers and other TA centers (e.g., Head Start TA centers), as appropriate, to effectively support the development and implementation of SSIPs and improve general supervision systems. This collaborative approach will also help to facilitate the alignment of States' SSIPs with other key Federal reform efforts.

Priority:

The purpose of this priority is to fund a cooperative agreement to establish and operate a Center for Systemic Improvement to achieve, at a minimum, the following expected outcomes:

(1) Increased capacity of SEAs and LAs to develop, implement, and evaluate their SSIPs to achieve improved outcomes for children with disabilities as part of their SPP/APRs under Parts B and C of IDEA;

(2) Increased SEA and LA knowledge, selection and utilization of EBPs to improve results for children with disabilities;

(3) Improved SEA and LA infrastructure and coordination within SEAs and LAs for delivering effective TA on implementing and scaling-up effective strategies, stakeholder engagement, resource mapping and allocation, and instructional collaboration;

(4) Increased use of effective dissemination strategies by SEAs and LAs to ensure LEAs and EIS programs/providers have access to EBPs and implement those EBPs in a sustainable manner;

(5) Increased effectiveness of LEAs and LAs to meaningfully engage State and local stakeholders in the development and implementation of the SSIP;

(6) Increased capacity of SEAs and LAs to effectively utilize TA resources funded by the Department (e.g., Technical Assistance and Dissemination Network centers, Comprehensive Centers, Regional Education Laboratories, Equity Assistance Centers) and other TA centers (e.g., Head Start TA centers), as appropriate; and

(7) Increased capacity of SEAs and LAs to implement general supervision systems that support effective implementation of the IDEA, including meeting its requirements and improving educational results and functional outcomes for children with disabilities.

In addition to these programmatic requirements, to be considered for funding under this priority, applicants must meet the application and administrative requirements in this priority. OSEP encourages innovative approaches to meet these requirements, which are:

(a) Demonstrate, in the narrative section of the application under “Significance of the Project,” how the proposed project will—

(1) Address the current and emerging needs of SEAs and LAs to: support the development, implementation, and evaluation of an SSIP; identify existing State resources and align those resources with strategic objectives; appropriately select a set of coherent improvement strategies, based on thorough data analyses, that are aligned to current efforts to improve outcomes for all children; disseminate information on EBPs; provide effective TA on EBP implementation; meaningfully engage stakeholders; and ensure the effective implementation of the IDEA. To meet this requirement the applicant must—

(i) Demonstrate knowledge of current educational and early intervention issues and ongoing challenges to implementing the IDEA consistent with its statutory and regulatory provisions and improving educational results and functional outcomes for children with disabilities; and

(ii) Present information and data about the current capacity of SEAs and LAs to support systemic change, and how the Center will address the weaknesses and enhance the strengths within SEAs and LAs to build capacity in local agencies to implement, scale-up, and sustain State-level initiatives and EBPs that will lead to improved educational results and functional outcomes for children with disabilities.

(2) Improve SEA and LA infrastructure (e.g., align governance, fiscal systems and resources, quality standards, professional development, data, TA, and accountability/monitoring, share data to inform needed improvement) and increase capacity to ensure implementation of the IDEA and the SSIP.

(b) Demonstrate, in the narrative section of the application under “Quality of the Project Services,” how the proposed project will—

(1) Assist SEAs and LAs to ensure equal access to TA products and services for members of groups that have traditionally been underrepresented based on race, color, national origin, gender, age, or disability. To meet this requirement, the applicant must describe how it will—

(i) Identify the needs of the intended recipients for TA and information; and

(ii) Ensure that TA services and products are accessible to the stakeholders served by the intended recipients (e.g., by creating materials in formats and languages accessible to the stakeholders served by the intended recipients and inclusive of culturally responsive principles).

(2) Achieve the goals, objectives, and intended outcomes in the application. To meet this requirement, the applicant must provide—

(i) Measurable intended project outcomes; and

(ii) The logic model by which the proposed project will achieve its intended outcomes.

(3) Use a conceptual framework to develop project plans and activities, describing any underlying concepts, assumptions, expectations, beliefs, or theories, as well as the presumed relationships or linkages among these variables, and any empirical support for this framework.

(4) Be based on current research and make use of EBPs. To meet this requirement, the applicant must describe—

(i) The current research on the effectiveness of systems change, capacity-building, and program evaluation that will inform the TA and related evidence-based improvement strategies;

(ii) The current research about adult learning principles and implementation science that will inform the proposed TA; and

(iii) How the proposed project will incorporate current research and EBPs in the development and delivery of its TA products and services.

(5) Develop products and provide services that are of high quality and sufficient intensity and duration to achieve the intended outcomes of the proposed project. To address this requirement, the applicant must describe—

(i) How it proposes to identify, use, and expand the knowledge base on—

(A) The coordination and functioning of SEA and LA infrastructure to drive better outcomes for children with disabilities;

(B) Supporting States in developing, implementing, and evaluating an SSIP;

(C) Effective State dissemination strategies to ensure access to and adoption of EBPs by LEAs and EIS programs; and

(D) Meaningful engagement of stakeholders to solve complex educational and early intervention problems and support implementation of the IDEA and the use of EBPs at the local level;

(ii) Its proposed approach to universal, general TA,⁵ which must identify the intended recipients of the products and services under this approach, and include the dissemination plan for ensuring that SEAs, LAs, and other relevant TA centers can access and use products and services developed by the proposed project;

⁵ “Universal, general TA” means TA and information provided to independent users through their own initiative, resulting in minimal interaction with TA center staff and including one-time, invited or offered conference presentations by TA center staff. This category of TA also includes information or products, such as newsletters, guidebooks, or research syntheses, downloaded from the TA center's Web site by independent users. Brief communications by TA center staff with recipients, either by telephone or email, are also considered universal, general TA.

(iii) Its proposed approach to targeted, specialized TA,⁶ which must, at a minimum, offer targeted TA to States with a “Needs Assistance” determination and identify—

⁶ “Targeted, specialized TA” means TA service based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients of the products and services under this approach;

(B) The process the proposed project will use to identify common areas of required TA for a number of SEAs and LAs (e.g., challenges presented by rural versus urban settings, structure of LA service delivery, early childhood transition, postsecondary transition, or disproportionality or other areas) that lend themselves to targeted TA; and

(C) The process by which the proposed project will collaborate with other relevant TA centers to develop and implement targeted TA strategies in order to reduce duplication of efforts and extend the reach of current TA providers; and

(iv) Its proposed approach to intensive, sustained TA,⁷ which must, at a minimum, offer intensive TA to States with a “Needs Intervention” determination and identify—

⁷ “Intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients of the products and services under this approach, including considerations used to determine which States without a “Needs Intervention” determination, if any, will receive this level of TA, including how the project will improve States' readiness for the proposed project, if necessary, in SEAs and LAs that require intensive TA;

(B) Its proposed plan for assisting SEAs and LAs to build or enhance their TA systems to include evidence-based professional development practices and coaching;

(C) Its proposed plan for working with appropriate levels of the education and early intervention system (e.g., regional TA providers, SEAs, LEAs, schools, LAs, EIS programs and providers, and families) to ensure that there is communication between each level and that there are systems in place to support the sustained use of EBPs; and

(D) The process by which the proposed project will collaborate with other relevant TA centers to develop and implement intensive TA strategies in order to reduce duplication of efforts and extend the reach of current TA providers.

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the Evaluation Plan,” include an evaluation plan for the project as described in the following paragraphs. In order to assess the effectiveness of the project's activities, the evaluation plan must describe measures of progress in implementation, including the extent to which the project's products and services have reached its target population, and measures of intended outcomes or results of the project's activities.

In designing the evaluation plan, the project must—

(1) Designate, with the approval of the OSEP project officers, a project liaison staff person with sufficient dedicated time, experience in evaluation, and knowledge of the project to work in collaboration with the Center to Improve Project Performance (CIPP),⁸ the project director, and the OSEP project officers on the following tasks:

⁸ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased technical assistance in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., preparing evaluation questions about significant program processes and outcomes, developing quantitative or qualitative data collections that permit both the collection of progress data, including fidelity of implementation, as appropriate, and the assessment of effectiveness, selecting respondent samples if appropriate, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's intensive review for continued funding described under the heading Fourth and Fifth Years of the Project; and

(C) Can be used to assist the project director and the OSEP project officers, with the assistance of CIPP, as needed, to specify the performance measures to be addressed in the project's APR;

(2) Cooperate with CIPP staff in order to accomplish the tasks described in paragraph (1) of this section; and

(3) Dedicate sufficient funds in each budget year to cover the costs of carrying out the tasks described in paragraphs (1) and (2) of this section and implementing the evaluation plan.

(d) In the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated to the project and how these allocations are appropriate and adequate to achieve the project's intended outcomes;

(3) The proposed management plan will ensure that the products and services provided are of high quality; and

(4) The proposed project will benefit from a diversity of perspectives (taking into consideration race, color, national origin, gender, age, or disability, as appropriate), including those of families, educators, TA providers, researchers, and policy makers, among others, in its development and operation.

(f) Address the following application requirements. The applicant must—

(1) Include in Appendix A a logic model that depicts, at a minimum, the goals, activities, outputs, and intended outcomes of the proposed project. A logic model communicates how a project will achieve its intended outcomes and provides a framework for both the formative and summative evaluations of the project.

Note: The following Web sites provide more information on logic models: www.researchutilization.org/matrix/logicmodel_resource3c.html and www.tadnet.org/pages/589;

(2) Include in Appendix A a conceptual framework for the project;

(3) Include in Appendix A person-loading charts and timelines, as applicable, to illustrate the management plan described in the narrative;

(4) Include in the budget attendance at the following:

(i) A one and one-half day kick-off meeting in Washington, DC, after receipt of the award, and an annual planning meeting in Washington, DC, with the OSEP project officers and other relevant staff during each subsequent year of the project period.

Note: Within 30 days of receipt of the award, a post-award teleconference must be held between the OSEP project officers and the grantee's project director or other authorized representative;

(ii) A two and one-half day project directors' conference in Washington, DC, during each year of the project period;

(iii) Two, two-day trips annually to attend Department briefings, Department-sponsored conferences, and other meetings, as requested by OSEP; and

(iv) A one-day intensive review meeting in Washington, DC, during the last half of the second year of the project period;

(5) Include in the budget a line item for an annual set-aside of five percent of the grant amount to support emerging needs that are consistent with the proposed project's intended outcomes, as those needs are identified in consultation with OSEP.

Note: With approval from the OSEP project officers, the project must reallocate any remaining funds from this annual set-aside no later than the end of the third quarter of each budget period; and

(6) Maintain a Web site that meets government or industry-recognized standards for accessibility.

Fourth and Fifth Years of the Project:

In deciding whether to continue funding the project for the fourth and fifth years, the Secretary will consider the requirements of 34 CFR 75.253(a), as well as—

(a) The recommendation of a review team consisting of experts selected by the Secretary. This review will be conducted during a one-day intensive meeting that will be held during the last half of the second year of the project period;

(b) The timeliness and effectiveness with which all requirements of the negotiated cooperative agreement have been or are being met by the project; and

(c) The quality, relevance, and usefulness of the project's products and services and the extent to which the project's products and services are aligned with the project's objectives and likely to result in the project achieving its intended outcomes.

References:

Barr, S.L. (2012). State education agencies: The critical role of SEAs in facilitating school district capacity to improve learning and achievement for students with disabilities. Minneapolis, MN: University of Minnesota, National Center on Educational Outcomes.

Bonner-Tompkins, E. (2005). State systems of technical assistance delivery in special education. August 2005 questionnaire: Summary of findings. Washington, DC: Council of Chief State School Officers and the Access Center.

Cashman, J., Linehan, P., Purcell, L., Rosser, M., Schultz, S., & Skalski, S. (2014). Leading by convening: A blueprint for authentic engagement. Alexandria, VA: National Association of State Directors of Special Education.

Cook, B.G., Cook, L., & Landrum, T.J. (2013). Moving research into practice. Exceptional Children, 79, (2).

Daley, T.C., Fiore, T.A., Bollmer, J., Nimkoff, T., & Lysy, C. (2013). National Evaluation of the IDEA Technical Assistance & Dissemination Program (NCEE 2014-4000). Washington, DC: National Center for Education Evaluation and Regional Assistance, Institute of Education Sciences, U.S. Department of Education.

Hanes, S., Kerins, T., Perlman, C., Redding, S., & Ross, S. (2012). Evaluating and improving the SEA system of recognition, accountability, and support with rubrics, explanations, and exemplars. Lincoln, IL: Academic Development Institute, Center on Innovation & Improvement.

Le Floch, K.C., Boyle, A., & Therriault, S.B. (2008). Help wanted: State capacity for school improvement. Washington, DC: American Institutes for Research.

National Governors Association, Center for Best Practices. (2010). Building ready states: A governors guide to supporting a comprehensive, high-quality early childhood State system. Washington, DC: Author. Retrieved from www.nga.org/files/live/sites/NGA/files/pdf/1010GOVSGUIDEEARLYCHILD.PDF.

Reville, P. (2007). A mountain beyond mountains. In Redding, S. & Walberg, H.J. (Eds.), Handbook on statewide systems of support. Lincoln, IL: Center on Innovation & Improvement.

Unger, C., Lane, B., Cutler, E., Lee, S., Whitney, J., Arruda, E., & Silva, M. (2008). How can State education agencies support district improvement: A conversation amongst educational leaders, researchers, and policy actors. Providence, RI: The Education Alliance at Brown University.

U.S. Department of Education, Office of the Under Secretary, Planning and Evaluation Service, Elementary and Secondary Education Division. (2000). Comprehensive Regional Assistance Centers Program: Final report on the evaluation: Volume I. Washington, DC: Author.

Winton, P. (2006). The evidence-based practice movement and its effect on knowledge utilization. In V. Buysse & P. Wesley (Eds.). Evidence-based practice in the early childhood field (pp. 71-115). Washington, DC: Zero to Three.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1463 and 1481.

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR part 79 apply to all applicants except federally recognized Indian tribes.

Note: The regulations in 34 CFR part 86 apply to IHEs only.

II. Award Information

Type of Award: Cooperative agreement.

Estimated Available Funds: $8,771,748.

Contingent upon the availability of funds and the quality of applications, we may make additional awards in FY 2015 from the list of unfunded applicants from this competition.

Maximum Award: We will reject any application that proposes a budget exceeding $8,771,748 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: SEAs; LAs; LEAs, including public charter schools that are considered LEAs under State law; IHEs; other public agencies; private nonprofit organizations; freely associated States and outlying areas; Indian tribes or tribal organizations; and for-profit organizations.

2. Cost Sharing or Matching: This program does not require cost sharing or matching.

3. Other General Requirements:

(a) Recipients of funding under this competition must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.326R.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit Part III to no more than 70 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in this notice and the application package.

3. Submission Dates and Times:

Applications Available: June 17, 2014.

Deadline for Transmittal of Applications: August 18, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This competition is subject to Executive Order 12372 and the regulations in 34 CFR part 79. However, under 34 CFR 79.8(a), we waive the intergovernmental review in order to make an award by the end of FY 2014.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Center for Systemic Improvement competition, CFDA number 84.326R, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Center for Systemic Improvement competition at www.Grants.gov. You must search for the downloadable application package for this competition by the CFDA number. Do not include the CFDA number's alpha suffix in your search (e.g., search for 84.326, not 84.326R).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Perry Williams, U.S. Department of Education, 400 Maryland Avenue SW., Room 4147, Potomac Center Plaza (PCP), Washington, DC 20202-2600. FAX: (202) 245-7617.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.326R), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.326R), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children With Disabilities program. For purposes of this priority, the Center will use these measures, which focus on the extent to which projects provide high-quality products and services, the relevance of project products and services to educational and early intervention policy and practice, and the use of products and services to improve educational and early intervention policy and practice.

Grantees will be required to report information on their project's performance in annual and final performance reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Perry Williams, U.S. Department of Education, 400 Maryland Avenue SW., Room 4147, PCP, Washington, DC 20202-2600. Telephone: (202) 245-7575.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5037, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: June 12, 2014.
Michael K. Yudin,
Acting Assistant Secretary for Special Education and Rehabilitative Services.

[FR Doc. 2014-14154 Filed 6-16-14; 8:45 am]

BILLING CODE 4000-01-P